DEPARTMENT OF LABOR

Agency Information Collection Activities; Submission for OMB Review; Comment Request; Quarterly Census of Employment and Wages Business Supplement

ACTION: Notice of availability; request for comments.

SUMMARY: The Department of Labor (DOL) is submitting this Bureau of Labor Statistics (BLS)-sponsored information collection request (ICR) to the Office of Management and Budget (OMB) for review and approval in accordance with the Paperwork Reduction Act of 1995 (PRA). Public comments on the ICR are invited.

DATES: The OMB will consider all written comments that the agency receives on or before June 16, 2022.

ADDRESSES: Written comments and recommendations for the proposed information collection should be sent within 30 days of publication of this notice to www.reginfo.gov/public/do/PRAMain. Find this particular information collection by selecting “Currently under 30-day Review—Open for Public Comments” or by using the search function.

Comments are invited on: (1) Whether the collection of information is necessary for the proper performance of the functions of the Department, including whether the information will have practical utility; (2) if the information will be processed and used in a timely manner; (3) the accuracy of the agency's estimates of the burden and cost of the collection of information, including the validity of the methodology and assumptions used; (4) ways to enhance the quality, utility and clarity of the information collection; and (5) ways to minimize the burden of the collection of information on those who are to respond, including the use of automated collection techniques or other forms of information technology.

FOR FURTHER INFORMATION CONTACT: Nicole Bouchet by telephone at 202-693-0213, or by email at DOL_PRA_PUBLIC@dol.gov.

SUPPLEMENTARY INFORMATION: The Quarterly Census of Employment and Wages Business Supplement (QBS) is a versatile collection instrument designed to capture information on the U.S. economy quicky and efficiently using the BLS Annual Refiling Survey as the data collection platform. The QBS collection is designed to incorporate new questionnaires as the need arises to allow BLS to collect and publish information quickly so that stakeholders and data users can understand the impact of specific events on the U.S. economy as they occur. The initial QBS survey, the 2021 Business Response Survey, collected information on how establishments were coping with the transition from the height of the coronavirus pandemic into a period of relative economic recovery. It followed the 2020 Business Response Survey (1220-0197), a one-time survey which captured information about changes to business operations, employment and workforce flexibilities, and benefits that occurred as a result of the onset of the pandemic. The BLS is now seeking approval to conduct another survey under the QBS information collection to capture information on telework, hiring and vacancies at establishments. This second QBS survey will ask questions about the availability of telework at businesses, hiring and current vacancies in an attempted to better understand current labor market conditions at this stage of the coronavirus pandemic. For additional substantive information about this ICR, see the related notice published in the Federal Register on February 3, 2021 (86 FRN 8037).

This information collection is subject to the PRA. A Federal agency generally cannot conduct or sponsor a collection of information, and the public is generally not required to respond to an information collection, unless the OMB approves it and displays a currently valid OMB Control Number. In addition, notwithstanding any other provisions of law, no person shall generally be subject to penalty for failing to comply with a collection of information that does not display a valid OMB Control Number. See 5 CFR 1320.5(a) and 1320.6. DOL seeks authorization for this information collection under OMB Control Number 1220-0198. The current approval is scheduled to expire on July 31, 2024.

Agency: DOL-BLS.

Title of Collection: Quarterly Census of Employment and Wages Business Supplement.

OMB Control Number: 1220-0198.

Affected Public: Businesses or other for-profit institutions, not-for-profit institutions, and farms.

Total Estimated Number of Respondents: 80,000.

Total Estimated Number of Responses: 80,000.

Total Estimated Annual Time Burden: 6,667 hours.

Total Estimated Annual Other Costs Burden: $0.

(Authority: 44 U.S.C. 3507(a)(1)(D))

Nicole Bouchet,
Senior PRA Analyst.

[FR Doc. 2022-10543 Filed 5-16-22; 8:45 am]

BILLING CODE 4510-24-P